DEPARTMENT OF THE INTERIOR

Bureau of Land Management

[LLCA 942000 L57000000 BX0000]

Filing of Plats of Survey: California

AGENCY: Bureau of Land Management, Interior.

ACTION: Notice.

SUMMARY: The plats of survey of lands described below are scheduled to be officially filed in the Bureau of Land Management California State Office, Sacramento, California, thirty (30) calendar days from the date of this publication.

ADDRESSES: A copy of the plats may be obtained from the California State Office, Bureau of Land Management, 2800 Cottage Way, Sacramento, California 95825, upon required payment.

Protest: A person or party who wishes to protest a survey must file a notice that they wish to protest with the California State Director, Bureau of Land Management, 2800 Cottage Way, Sacramento, California, 95825.

FOR FURTHER INFORMATION CONTACT: Chief, Branch of Geographic Services, Bureau of Land Management, California State Office, 2800 Cottage Way, Room W-1623, Sacramento, California 95825, (916) 978-4310.

SUPPLEMENTARY INFORMATION: These surveys were executed to meet the administrative needs of various federal agencies; the Bureau of Land Management, Bureau of Indian Affairs, or Bureau of Reclamation. The lands surveyed are:

Mount Diablo Meridian, California

T. 33 N., R. 10 W., supplemental plat of the S ½ of section 18 accepted April 15, 2013.

T. 26 N., R. 15 E., dependent resurvey and subdivision of section accepted April 16, 2013.

T. 12 N., R. 18 E., dependent resurvey and subdivision of sections 12 and 13 accepted April 23, 2013.

San Bernardino Meridian, California

T. 8 N., R. 6 E., amended dependent resurvey accepted March 12, 2013.

T. 9 N., R. 5 E., amended dependent resurvey accepted March 12, 2013.

T. 9 N., R. 6 E., amended dependent resurvey accepted March 12, 2013.

T. 18 S., R. 5 E., dependent resurvey and subdivision of section 23 accepted April 16, 2013.

T. 2 N., R. 3 W., dependent resurvey and informative traverse accepted April 18, 2013.

Authority: 43 U.S.C., Chapter 3.

Dated: May 7, 2013.
Lance J. Bishop,
Chief Cadastral Surveyor, California.

[FR Doc. 2013-11545 Filed 5-14-13; 8:45 am]

BILLING CODE 4310-40-P